DEPARTMENT OF ENERGY

Federal Energy Regulatory Commission

[Docket No. RP97-14-011]

Midwestern Gas Transmission Company; Notice of Proposed Changes in FERC Gas Tariff

August 21, 2002.

Take notice that on August 12, 2002, Midwestern Gas Transmission Company (Midwestern) tendered for filing and acceptance, an interruptible gas transportation service agreement pursuant to Midwestern's Rate Schedule IT-1, Second Revised Sheet No. 7 and Second Revised Sheet No. 273 of Midwestern's FERC Gas Tariff, Third Revised Volume No. 1. The filing sets forth a negotiated rate non-conforming interruptible agreement between Midwestern and Mirant Americas Energy Marketing, LP (Mirant) that became effective August 12, 2002.

Copies of this filing have been sent to all of Midwestern's contracted shippers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21853 Filed 8-27-02; 8:45 am]

BILLING CODE 6717-01-P